DEPARTMENT OF AGRICULTURE

Food and Nutrition Service

Agency Information Collection Activities; Proposed Collection; Comment Request: Supplemental Nutrition Assistance Program Regulations, Quality Control

AGENCY: Food and Nutrition Service, USDA.

ACTION: Notice.

SUMMARY: As required by the Paperwork Reduction Act of 1995, this notice invites the general public and other public agencies to comment on the proposed information collection for the Supplemental Nutrition Assistance Program's Regulations, Part 275—Quality Control. Specifically, the burden associated with the collection of information for the sampling plan, arbitration process and the good cause process. This is a revision of a currently approved collection, OMB No. 0584-0303.

DATES: Written comments must be submitted on or before July 22, 2013.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility and clarity of the information to be collected; and (d) ways to minimize the burden of the collection of information on those who are to respond, including the use of appropriate automated, electronic, mechanical or other technological collection techniques or other forms of information technology.

Comments may be sent to Patrick Lucrezio, Food and Nutrition Service, U.S. Department of Agriculture, 3101 Park Center Drive, Room 822, Alexandria, VA 22302. Comments may also be submitted via email to SNAPHQ-Web@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Patrick Lucrezio at 703-305-2498.

SUPPLEMENTARY INFORMATION: Title: Supplemental Nutrition Assistance Program's (SNAP) Quality Control Regulations, Part 275.

OMB Number: 0584-0303.

Expiration Date: December 31, 2013.

Type of Request: Revision of a currently approved collection.

Abstract: There are three components of the Quality Control (QC) system that are covered in this proposed information collection. They are: (1) The sampling plan; (2) the arbitration process; and (3) the good cause process. Each State is required to develop a sampling plan that demonstrates the integrity of its case selection procedures. The QC system is designed to measure each State agency's payment error rate based on a statistically valid sample of SNAP cases. A State agency's payment error rate represents the proportion of cases that were reported through a QC review as being ineligible, overissued and underissued SNAP benefits.

The QC system contains procedures for resolving differences in review findings between State agencies and FNS. This is referred to as the arbitration process. The QC system also contains procedures that provide relief for State agencies from all or a part of a QC liability when a State agency can demonstrate that a part or all of an excessive error rate was due to an unusual event that had an uncontrollable impact on the State agency's payment error rate. This is referred to as the good cause process.

The approved burden for the QC system includes the burden for the QC sampling plan, the arbitration process and the good cause process. The annual reporting burden associated with the QC sampling plan remains at 265 hours. We estimate the annual reporting burdens associated with arbitration and good cause processes to total 792 and 320 hours, respectively. The decrease in the proposed burden from the currently approved 936 to 792 hours for the arbitration process is due to a decrease in the estimated number of responses per State agency from 2.6 to 2.2. These decreases are a result of State agencies less frequently disagreeing with FNS' findings. The proposed annual reporting burden for the good cause process has increased from 160 hours to 320 hours due to an increase in the number of states using the good cause rule from 1 to 2 per year. The total reporting burden for the QC system is, therefore, 1,377 hours, a decrease of 144 hours from the previously approved burden.

The proposed annual recordkeeping burden associated with the QC sampling plan remains at 1.25 hours per year. The proposed annual recordkeeping burdens associated with arbitration has decreased from 0.92 to 0.7788 hour and the good cause process has increased to 0.0472 hour. The recordkeeping burden for the arbitration process was due to the decrease in estimated number of responses per State from 2.6 to 2.2. The recordkeeping burden for the good cause process has increased from 0.0236 to 0.0472 hour due to an additional State's use of the rule. The total burden for recordkeeping has decreased from 2.19 hours to 2.076 hours. As a result, the total annual burden for the QC system, as proposed by this notice, increased from 1,363 hours to 1,379.076 hours; a total increase of 16.076 hours. We are requesting a three-year approval from OMB for this information collection.

Affected public | Requirement | Estimated # of respondents | Responses annually per respondent | Total annual responses (col. bxc) | Estimated avg. # of hours per response | Estimated total hours (col. dxe)
Reporting Burden
State Agencies | Sampling Plan | 53 | 1 | 53 | 5 | 265
State Agencies | Arbitration Process | 15 | 2.2 | 33 | 24 | 792
State Agencies | Good Cause Process | 2 | 1 | 2 | 160 | 320
Grand Total Reporting |  | 53 |  | 88 |  | 1,377
Recordkeeping Burden
State Agencies | Sampling Plan | 53 | 1 | 53 | 0.0236 | 1.25
State Agencies | Arbitration Process | 15 | 2.2 | 33 | 0.0236 | 0.7788
State Agencies | Good Cause Process | 2 | 1 | 2 | 0.0236 | 0.0472
Grand Total Recordkeeping |  | 53 |  | 88 |  | 2.076

Affected public | Requirement | Total annual responses for reporting & recordkeeping | Estimated total reporting recordkeeping hours
Overall Reporting and Recordkeeping Burden
State Agencies | Sampling Plan | 106 | 266.25
State Agencies | Arbitration Process | 99 | 792.7788
State Agencies | Good Cause Process | 4 | 320.0472
OVERALL TOTAL BURDEN |  | 209 | 1,379.08

The Combined Quality Control System's Estimated Burden (includes the burdens associated with the Sampling Plan, Arbitration, and Good Cause): (Reporting 1,377 + Recordkeeping Burden Hour) = 1,379.076 hours.

Dated: May 14, 2013.
Audrey Rowe,
Administrator, Food and Nutrition Service.

[FR Doc. 2013-12245 Filed 5-22-13; 8:45 am]

BILLING CODE 3410-30-P